DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground Modified | Communities affected
Randolph County, Illinois, and Incorporated Areas
Docket No.: FEMA-B-7740
Kaskaskia River | At confluence with Mississippi River | +392 | Village of Evansville, Unincorporated Areas of Randolph County.
| Randolph/Monroe County boundary (approximately 700 feet upstream Anna Lane extended) | +392
Mississippi River | Jackson/Randolph County boundary (approximately Cora Road extended) | +382 | City of Chester, Unincorporated Areas of Randolph County, Village of Kaskaskia, Village of Prairie Du Rocher, Village of Rockwood.
| Randolph/Monroe County boundary (approximately 3,025 feet downstream of Regtown Road extended) | +402
* National Geodetic Vertical Datum.
+ North American Vertical Datum.
# Depth in feet above ground.
ADDRESSES
City of Chester
Maps are available for inspection at 1330 Swanwick Street, Chester, IL 62233.
Unincorporated Areas of Randolph County
Maps are available for inspection at 1 Taylor Street, Zoning Administrator, Chester, IL 62233.
Village of Evansville
Maps are available for inspection at 403 Spring Street, P.O. Box 257, Evansville, IL 62242.
Village of Kaskaskia
Maps are available for inspection at 1 Taylor Street, Chester, IL 62233.
Village of Prairie Du Rocher
Maps are available for inspection at 209 Henry Street, P.O. Box 325, Prairie Du Rocher, IL 62277.
Village of Rockwood
Maps are available for inspection at 900 Original Street, Rockwood, IL 62280.
Warren County, Mississippi, and Incorporated Areas
Docket No.: FEMA-B-7721
Clear Creek | At Tiffintown Road | +144 | (Warren County, Unincorporated Areas).
| Approximately 6,490 feet upstream of Tiffintown Road | +150
Clear Creek Tributary 1 | At Tiffintown Road | +144 | (Warren County, Unincorporated Areas).
| Approximately 1,825 feet upstream of Tiffintown Road | +145
Crouches Creek | Approximately 840 feet downstream of confluence with Crouches Creek Tributary 2 | +155 | (Warren County, Unincorporated Areas).
| Approximately 2,730 feet upstream of confluence with Crouches Creek Tributary 2 | +164
Crouches Creek Tributary 2 | At confluence with Crouches Creek | +159 | (Warren County, Unincorporated Areas).
| At Freetown Road | +165
Crouches Creek Tributary 3 | At confluence with Crouches Creek | +159 | (Warren County, Unincorporated Areas).
| Approximately 2,970 feet upstream of confluence with Crouches Creek | +166
Glass Bayou | At Fort Hill Drive | +123 | City of Vicksburg.
| At Evergreen Drive | +208
Muddy Creek | At Tucker Road | +148 | (Warren County, Unincorporated Areas).
| Approximately 4,565 feet upstream of TuckerRoad | +150
Muddy Creek Tributary 1 | At confluence with Muddy Creek | +148 | (Warren County, Unincorporated Areas).
| Approximately 2,970 feet upstream of confluence with Muddy Creek | +176
Paces Bayou | At U.S. Highway 61 | +96 | City of Vicksburg (Warren County, Unincorporated Areas).
| Approximately 3,530 feet upstream of U.S. Highway 61 | +108
Paces Bayou Tributary 1 | At Redbone Road | +121 | City of Vicksburg.
| Approximately 1,390 feet upstream of Redbone Road | +123
Paces Bayou Tributary 3 | At Redbone Road | +115 | City of Vicksburg, (Warren County, Unincorporated Areas).
| Approximately 2,040 feet upstream of Redbone Road | +118
Silver Creek | Approximately 1,500 feet downstream of confluence with Silver Creek Tributary 2 | +162 | (Warren County, Unincorporated Areas).
| Approximately 8,615 feet upstream of confluence with Silver Creek Tributary 3 | +259
Silver Creek Tributary 2 | Approximately 745 feet upstream of confluence with Silver Creek | +181 | (Warren County, Unincorporated Areas).
| Approximately 4,890 feet upstream of confluence with Silver Creek | +217
Silver Creek Tributary 3 | Approximately 1,070 feet upstream of confluence with Silver Creek | +191 | (Warren County, Unincorporated Areas).
| Approximately 4,975 feet upstream of confluence with Silver Creek | +228
Stouts Bayou | At Interstate 20 | +122 | City of Vicksburg.
| At Spring Street | +197
* National Geodetic Vertical Datum.
+ North American Vertical Datum.
# Depth in feet above ground.
ADDRESSES
City of Vicksburg
Maps are available for inspection at 1401 Walnut Street, Vicksburg, MS 39180.
Warren County (Unincorporated Areas)
Maps are available for inspection at 913 Jackson Street, Vicksburg, MS 39183.
Cabarrus County, North Carolina and Incorporated Areas
Docket Nos.: FEMA-B-7718, FEMA-B-7736, FEMA-D-7820, and FEMA-B-7752
Adams Creek | Approximately 150 feet upstream of NC 73 | +630 | Unincorporated Areas of Cabarrus County.
| Approximately 1,460 feet upstream of NC 73 Highway E | +630
Afton Run | Approximately 50 feet upstream of Dogwood Boulevard | +665 | City of Kannapolis.
| Approximately 1.5 miles upstream of Dogwood Boulevard | +710
Anderson Creek | Approximately 50 feet upstream of Bethel Church Road (State Road 1125) | +566 | Unincorporated Areas of Cabarrus County.
| Approximately 900 feet upstream of Sam Black Road (State Road 1127) | +613
Anderson Creek Tributary 1 | At the confluence with Anderson Creek | +575 | Unincorporated Areas of Cabarrus County.
| At Sam Black Road (State Road 1127) | +611
Caldwell Creek Tributary | Approximately 1,125 feet upstream of the confluence with Caldwell Creek | +593 | Unincorporated Areas of Cabarrus County.
| Approximately 1,700 feet upstream of Pioneer Mill Road (State Road 1134) | +669
Chambers Branch | Approximately 110 feet upstream of U.S. Highway 29 | +702 | City of Kannapolis.
| Approximately 1,180 feet upstream of East 1st Street | +718
Clear Creek | At the confluence with Rocky River | +469 | Unincorporated Areas of Cabarrus County, Town of Midland.
| Approximately 150 feet upstream of the Cabarrus/Mecklenburg County boundary | +536
Coddle Creek | Approximately 150 feet downstream of Coddle Creek Dam | +620 | Unincorporated Areas of Cabarrus County.
| At the Rowan/Cabarrus/Iredell County boundary | +674
Coddle Creek Tributary 1 | Approximately 500 feet upstream of the confluence with Coddle Creek | +543 | Unincorporated Areas of Cabarrus County, City of Concord.
| Approximately 1,800 feet upstream of Rocky River Road (State Road 1139) | +555
Coddle Creek Tributary 2 | Approximately 950 feet upstream of the confluence with Coddle Creek | +543 | Unincorporated Areas of Cabarrus County, City of Concord.
| Approximately 1,300 feet upstream of Chapel Creek Road Southwest | +551
Coddle Creek Tributary 3 | Approximately 200 feet upstream of the confluence with Coddle Creek | +569 | City of Concord.
| Approximately 1.0 mile upstream of Roberta Church Road | +598
Cold Water Creek | At the confluence of Little Cold Water Creek | +550 | Unincorporated Areas of Cabarrus County, City of Concord, City of Kannapolis.
| Approximately 0.5 mile upstream of Moose Road | +653
Common Ford Branch | Approximately 0.4 mile upstream of Penninger Road (State Road 2113) | +618 | Unincorporated Areas of Cabarrus County.
| Approximately 1.5 miles upstream of Penninger Road (State Road 2113) | +682
Dutch Buffalo Creek | Approximately 150 feet upstream of NC 73 | +524 | Unincorporated Areas of Cabarrus County.
| Approximately 1,120 feet upstream of Sapp Road (State Road 2402) | +684
Dutch Buffalo Creek Tributary 1 | At the confluence with Dutch Buffalo Creek | +674 | Unincorporated Areas of Cabarrus County.
| Approximately 0.7 mile upstream of Pless Road (State Road 2432) | +688
Horton Branch | Approximately 80 feet upstream of Bethel Church Road (State Road 1125) | +575 | Unincorporated Areas of Cabarrus County.
| Approximately 0.6 mile upstream of Sam Black Road (State Road 1127) | +632
Irish Buffalo Creek | Approximately 600 feet upstream of Cannon Farm Road | +733 | City of Kannapolis.
| Approximately 0.9 mile upstream of Cannon Farm Road | +744
Irish Buffalo Creek Tributary 1 | Approximately 350 feet upstream of the confluence with Irish Buffalo Creek | +611 | City of Concord.
| Approximately 910 feet upstream of Hanover Drive Northwest | +639
Irish Buffalo Creek Tributary 2 | Approximately 1,200 feet upstream of the confluence with Irish Buffalo Creek | +624 | City of Concord, City of Kannapolis.
| Approximately 1,950 feet upstream of Orphanage Road | +645
Irish Buffalo Creek Tributary 3 | Approximately 750 feet upstream of the confluence with Irish Buffalo Creek | +671 | City of Kannapolis.
| Approximately 500 feet upstream of Mooresville Road | +704
Irish Buffalo Creek Tributary 4 | Approximately 1,250 feet upstream of the confluence with Irish Buffalo Creek | +735 | City of Kannapolis.
| Approximately 0.7 mile upstream of the confluence with Irish Buffalo Creek | +745
Irish Buffalo Creek Tributary 5 | Approximately 1,350 feet upstream of the confluence with Irish Buffalo Creek | +735 | City of Kannapolis.
| Approximately 0.7 mile upstream of the confluence with Irish Buffalo Creek | +750
Jones Branch | Approximately 500 feet upstream of the confluence with Rocky River | +530 | Unincorporated Areas of Cabarrus County.
| Approximately 1,690 feet upstream of Falcon Drive (State Road 1269) | +595
Lick Branch | At the confluence with Dutch Buffalo Creek | +666 | Unincorporated Areas of Cabarrus County.
| Approximately 1,160 feet upstream of Sapp Road (State Road 2402) | +740
Little Buffalo Creek | At the confluence with Dutch Buffalo Creek | +531 | Unincorporated Areas of Cabarrus County.
| Approximately 1.9 miles upstream of Drye Road (State Road 2443) | +593
Little Meadow Creek | Approximately 100 feet upstream of Reed Mine Road (State Road 1100) | +501 | Unincorporated Areas of Cabarrus County.
| Approximately 330 feet upstream of County Line Road (State Road 2623) | +607
Mallard Creek | Approximately 2,250 feet upstream of Morehead Road | +570 | Unincorporated Areas of Cabarrus County, Town of Harrisburg.
| At the Cabarrus/Mecklenberg County boundary | +576
Mallard Creek Tributary 1 | At the confluence with Mallard Creek | +571 | Town of Harrisburg.
| At the Cabarrus/Mecklenberg County boundary | +590
Mallard Creek Tributary 1A | At the confluence with Mallard Creek Tributary 1 | +571 | Town of Harrisburg.
| Approximately 1.0 mile upstream of the confluence with Mallard Creek Tributary 1 | +643
Mallard Creek Tributary 1B | At the confluence with Mallard Creek Tributary 1 | +586 | Town of Harrisburg.
| Approximately 1,650 feet upstream of the confluence with Mallard Creek Tributary 1 | +623
Mallard Creek Tributary 2 | At the confluence with Mallard Creek | +573 | City of Concord, Town of Harrisburg.
| Approximately 1,290 feet upstream of Hudspeth Road (State Road 1302) | +634
Meadow Creek | Approximately 1,500 feet downstream of Reed Mine Road (State Road 1100) | +495 | Unincorporated Areas of Cabarrus County.
| Approximately 0.5 mile upstream of Reed Mine Road (State Road 1100) | +500
Mill Creek | At the confluence with Coddle Creek | +650 | Unincorporated Areas of Cabarrus County, City of Kannapolis.
| Approximately 100 feet upstream of the Cabarrus/Rowan County boundary | +715
Miller Branch | Approximately 250 feet upstream of the confluence with Irish Buffalo Creek | +656 | Unincorporated Areas of Cabarrus County, City of Kannapolis.
| Approximately 0.9 mile upstream of Mooresville Road | +767
Morris Branch | Approximately 660 feet upstream of the confluence with Rocky River | +566 | Town of Harrisburg.
| Approximately 1,280 feet upstream of Rocky River Crossing Road | +602
Muddy Creek | At the confluence with Rocky River | +478 | Unincorporated Areas of Cabarrus County, Town of Midland.
Muddy Creek Tributary 1 | At the confluence with Muddy Creek | +492 | Unincorporated Areas of Cabarrus County, Town of Midland.
| Approximately 150 feet upstream of NC 24-27 Highway E | +525
Overcash Branch | Approximately 1,000 feet upstream of the confluence with Irish Buffalo Creek | +664 | City of Kannapolis.
| Approximately 740 feet upstream of Quailwoods Court | +697
Park Creek | At the confluence with Coddle Creek | +652 | Unincorporated Areas of Cabarrus County.
| At the Cabarrus/Rowan County boundary | +679
Patterson Branch Tributary | Approximately 75 feet upstream of the confluence with Patterson Branch | +703 | City of Kannapolis.
| Approximately 1,800 feet upstream of Beaumont Avenue | +747
Ridenhour Branch | At the downstream side of Colfax Drive Southeast (State Road 2513) | +552 | Unincorporated Areas of Cabarrus County, City of Concord.
| Approximately 0.5 mile upstream of the confluence of Ridenhour Branch Tributary | +628
Ridenhour Branch Tributary | At the confluence with Ridenhour Branch | +599 | Unincorporated Areas of Cabarrus County, City of Concord.
| Approximately 1.2 miles upstream of Lake Lynn Road (State Road 2640) | +671
Rocky River | At the Union/Stanly/Cabarrus County boundary | +469 | Unincorporated Areas of Cabarrus County, City of Concord, City of Kannapolis, Town of Harrisburg, Town of Midland.
| At the Cabarrus/Mecklenberg/Iredell County boundary | +687
Rocky River Tributary 11 | Approximately 200 feet downstream of NC 200 | +508 | Unincorporated Areas of Cabarrus County.
| Approximately 0.7 mile upstream of NC 200 | +555
Rocky River Tributary 14 | Approximately 500 feet upstream of confluence with Rocky River | +561 | Town of Harrisburg.
| Approximately 1,700 feet upstream of Rocky River Crossing Road | +574
Rogers Lake Branch | Approximately 100 feet upstream of Rogers Lake Road | +715 | City of Kannapolis.
| Approximately 190 feet upstream of Richard Avenue | +742
Royal Oaks Branch | Approximately 350 feet upstream of the confluence with Cold Water Creek | +582 | Unincorporated Areas of Cabarrus County, City of Concord, City of Kannapolis.
| Approximately 650 feet upstream of Lake Concord Road | +660
Shamrock Branch | Approximately 75 feet downstream of Wilson Street | +595 | City of Concord.
| Approximately 1,050 feet upstream of Shamrock Street Northeast | +644
Stricker Branch | Approximately 750 feet upstream of the confluence with Irish Buffalo Creek | +597 | City of Concord.
| Approximately 180 feet upstream of NC 73 | +636
Threemile Branch | At the confluence with Cold Water Creek | +558 | City of Concord, City of Kannapolis.
| Approximately 370 feet upstream of Plymouth Street | +751
Water Creek | Approximately 500 feet upstream of the confluence with Little Cold Water Creek | +586 | Unincorporated Areas of Cabarrus County.
| Approximately 0.7 mile upstream of Gold Hill Road (State Road 2408) | +625
Yow Branch | Approximately 80 feet upstream of NC 200 | +507 | Unincorporated Areas of Cabarrus County, Town of Mount Pleasant.
| Approximately 1,130 feet upstream of NC 200 Highway | +507
* National Geodetic Vertical Datum.
+ North American Vertical Datum.
# Depth in feet above ground.
ADDRESSES
City of Concord
Maps are available for inspection at City of Concord GIS Division, 66 Union Street South, Concord, North Carolina.
City of Kannapolis
Maps are available for inspection at Kannapolis City Hall, 246 Oak Avenue, Kannapolis, North Carolina.
Town of Harrisburg
Maps are available for inspection at Harrisburg Town Hall, 4100 Main Street, Suite 101, Harrisburg, North Carolina.
Town of Midland
Maps are available for inspection at Midland Town Hall, 4293B Highway 24-27 East, Midland, North Carolina.
Town of Mount Pleasant
Maps are available for inspection at Mount Pleasant Town Hall, 8590 Park Drive, Mount Pleasant, North Carolina.
Unincorporated Areas of Cabarrus County
Maps are available for inspection at Cabarrus County Planning Services Department, 65 Church Street Southeast, Concord, North Carolina.
Fayette County, Tennessee, and Incorporated Areas
Docket Nos.: FEMA-B-7702 & FEMA-D-7824
Cane Creek | At the confluence of Little Cypress Creek | +278 | Fayette County (Unincorporated Areas), Town of Gallaway.
| Approximately 7,000 feet upstream of Centerpoint Drive | +297
Cane Creek Tributary | At the confluence with Cane Creek | +284 | Town of Gallaway.
| Approximately 800 feet upstream of Highway 70 | +295
Cypress Creek | Just upstream of Highwy 64 | +296 | Fayette County (Unincorporated Areas).
| Approximately 1,300 feet upstream of State Highway 196 | +310
Grays Creek | Approximately 1,980 feet southwest of the intersection of Seward Drive and Jacobs Way | +343 | Fayette County (Unincorporated Areas).
| Approximately 4,980 feet southwest of the intersection of Seward Drive and Walnut Hill Way | +359
North Fork Wolf River | At the confluence with Wolf River | +339 | Fayette County (Unincorporated Areas).
| Approximately 11,400 feet upstream of State Highway 76 | +361
Wolf River Unnamed Tributary 1 (Controlled by Wolf River) | Approximately 1,600 feet upstream of the confluence with Wolf River | +300 | City of Piperton, Unincorporated Areas of Fayette County.
| Approximately 5,170 feet upstream of the confluence with Wolf River | +300
Wolf River Unnamed Tributary 2 (Controlled by Wolf River) | Approximately 2,750 feet upstream of the confluence with Wolf River | +300 | Unincorporated Areas of Fayette County.
| Approximately 4,300 feet upstream of the confluence with Wolf River | +300
* National Geodetic Vertical Datum.
+ North American Vertical Datum.
# Depth in feet above ground.
ADDRESSES
Town of Gallaway
Maps are available for inspection at 607 Watson Drive, Gallaway, TN 38036.
City of Piperton
Maps are available for inspection at 3575 Highway 196, Piperton, TN 38017.
Fayette County (Unincorporated Areas)
Maps are available for inspection at 16265 Highway 64, Suite 4, Somerville, TN 38068.
Gibson County, Tennessee, and Incorporated Areas
Docket No.: FEMA-B-7740
Clear Creek | At the confluence with Wolf Creek | +396 | Unincorporated Areas of Gibson County.
| Approximately 2,300 feet upstream of the confluence with Wolf Creek | +401
Wolf Creek | Approximately 480 feet upstream of State Highway 104 | +395 | Unincorporated Areas of Gibson County.
| Approximately 2,211 feet upstream of State Highway 104 | +397
* National Geodetic Vertical Datum.
+ North American Vertical Datum.
# Depth in feet above ground.
ADDRESSES
Unincorporated Areas of Gibson County
Maps are available for inspection at 309 S. College Street, Trenton, TN 38382.
Obion County, Tennessee, and Incorporated Areas
Docket No.: FEMA-B-7740
Fifteenth Street Tributary | Approximately 1,740 feet upstream of the confluence with Richland Creek | +284 | Unincorporated Areas of Obion County.
| At the confluence with Richland Creek | +284
Grove Creek | Approximately 2,070 feet downstream of State Highway 22 | +311 | Unincorporated Areas of Obion County.
| Approximately 950 feet downstream of State Highway 22 | +313
Hoosier Creek | Approximately 1,950 feet downstream of State Highway 3 | +314 | Unincorporated Areas of Obion County.
| Approximately 1,250 feet downstream of State Highway 3 | +314
Johnson Hurt Avenue Tributary | At the confluence with Obion River | +284 | Unincorporated Areas of Obion County.
| Approximately 1,070 feet upstream of the confluence with Obion River | +284
Obion River | Just upstream of State Highway 3 | +284 | Unincorporated Areas of Obion County.
| Approximately 2,400 feet upstream of State Highway 211 | +284
Obion River Drainage Canal | Just upstream of State Highway 3 | +284 | Unincorporated Areas of Obion County.
| Approximately 4,280 feet upstream of State Highway 211 | +284
Old Obion River Drainage Canal | Just upstream of State Highway 3 | +284 | Unincorporated Areas of Obion County.
| Approximately 2,800 feet upstream of State Highway 211 | +284
Pursley Creek | Approximately 320 feet upstream Nailing Drive | +323 | Unincorporated Areas of Obion County.
| Approximately 800 feet downstream of State Highway 3 | +332
Richland Creek | At the confluence with Obion River | +284 | Unincorporated Areas of Obion County.
| Approximately 100 feet downstream of West Palestine Road | +284
* National Geodetic Vertical Datum.
+ North American Vertical Datum.
# Depth in feet above ground.
ADDRESSES
Unincorporated Areas of Obion County
Maps are available for inspection at County Mayor, P.O. Box 236, Union City, TN 38281.
Rhea County, Tennessee, and Incorporated Areas
Docket No.: FEMA-B-7740
Little Richland Creek Tributary | At the confluence of Little Richland Creek | +695 | City of Dayton, Unincorporated Areas of Rhea County.
| Approximately 210 feet downstream of Back Valley Road | +736
* National Geodetic Vertical Datum.
+ North American Vertical Datum.
# Depth in feet above ground.
ADDRESSES
City of Dayton
Maps are available for inspection at Dayton City Hall, 399 First Avenue, Dayton, TN 37321.
Unincorporated Areas of Rhea County
Maps are available for inspection at Rhea County Property Assessor's Office, 375 Church Street, Suite 100, Dayton, TN 37321.
Weakley County, Tennessee, and Incorporated Areas
Docket No.: FEMA-B-7740
Cane Creek | Approximately 50 feet upstream of Mount Pelia Road | +337 | Unincorporated Areas of Weakley County.
| Approximately 450 feet downstream of the confluence with Cane Creek Tributary | +344
Cane Creek Tributary | Just Upstream of Gardener Hyndsver Road | +363 | Unincorporated Areas of Weakley County.
| Approximately 70 feet downstream of Old Fulton Road | +371
Mud Creek | Just downstream of State Route 22 | +365 | City of Dresden.
| Approximately 900 feet upstream of Boydenville Road | +402
* National Geodetic Vertical Datum.
+ North American Vertical Datum.
# Depth in feet above ground.
ADDRESSES
City of Dresden
Maps are available for inspection at 117 W. Main Street, Dresden, TN 38225.
Unincorporated Areas of Weakley County
Maps are available for inspection at 116 W. Main Street, Dresden, TN 38225.

(Catalog of Federal Domestic Assistance No. 97.022, “Flood Insurance.”)

Dated: May 9, 2008.
Michael K. Buckley,
Deputy Assistant Administrator for Mitigation, Department of Homeland Security, Federal Emergency Management Agency.

[FR Doc. E8-10931 Filed 5-15-08; 8:45 am]

BILLING CODE 9110-12-P